NUCLEAR REGULATORY COMMISSION

[Docket No. 50-388]

PP&L, Inc.; Notice of Correction to Notice of Consideration of Issuance of Amendment to Facility Operating License, Proposed No Significant Hazards Consideration Determination, and Opportunity for a Hearing

On April 21, 2000 (65 FR 21487), the Federal Register published a notice of issuance of amendment to facility operating license, proposed no significant hazards consideration determination, and opportunity for a hearing for PP&L, Inc.. On page 21488, third column, second paragraph, the date May 5, 2000 was incorrectly noted. It should read “May 22, 2000.”

Dated at Rockville, Maryland, this 27th day of April 2000.
For the Nuclear Regulatory Commission.
Michael T. Lesar,
Rules Review and Directives Branch, Division of Administrative Services, Office of Administration.

[FR Doc. 00-10885 Filed 5-1 -00; 8:45 am]

BILLING CODE 7590-01-P